DEPARTMENT OF TRANSPORTATION

Federal Highway Administration

23 CFR Chapter 1

RIN 2125-AG08

Incorporating Safety Into Federal-Aid Programs and Projects

AGENCY: Federal Highway Administration (FHWA), U.S. Department of Transportation (DOT).

ACTION: Termination of rulemaking.

SUMMARY: FHWA terminates its rulemaking titled “Incorporating Safety Into Federal-aid Programs and Projects.” FHWA will proceed to formally terminate the rule from FHWA's upcoming Spring 2025 Unified Agenda of Regulatory and Deregulatory Actions (“Unified Agenda”).

DATES: June 3, 2025.

FOR FURTHER INFORMATION CONTACT: Mr. Robert Ritter, Office of Safety, (202) 493-0019, Robert.Ritter@dot.gov; or Mr. David Serody, Office of the Chief Counsel, (202) 366-4241, David.Serody@dot.gov, Federal Highway Administration, 1200 New Jersey Avenue SE, Washington, DC 20590. Office hours are from 8 a.m. to 4:30 p.m., E.T., Monday through Friday, except Federal holidays.

SUPPLEMENTARY INFORMATION:

Electronic Access and Filing

This document may be viewed online through the Federal eRulemaking portal at www.regulations.gov. The website is available 24 hours each day, 365 days each year. An electronic copy of this document may also be downloaded from the Office of the Federal Register's website at www.federalregister.gov.

Background

FHWA had initiated a rulemaking titled “Incorporating Safety Into Federal-aid Programs and Projects” Regulation Identifier Number (RIN) 2125-AG08 to establish new regulations pertaining to integrating safety across Federal-aid highway programs. This rulemaking project was listed on FHWA's Unified Agenda; however, no Notice of Proposed Rulemaking was published in the Federal Register.

Consistent with President Trump's commitment to ending unlawful, unnecessary, and onerous regulations, FHWA is reviewing its existing regulations and ongoing regulatory activities for alignment with the law and Administration priorities. FHWA is withdrawing this rulemaking activity because further rulemaking action does not align with current Agency needs, priorities, and objectives. Terminating this rulemaking does not impact any current safety efforts. FHWA continues to consider the best means of addressing some or all the issues surrounding its regulations and the scope of any Agency actions FHWA concludes may be necessary to address these issues.

In addition, all Agencies participate in the semi-annual Unified Agenda, which provides a summary description of the rulemaking actions that each Agency is considering or reviewing. Agencies' agendas are posted on the public website of the Office of Information and Regulatory Affairs, and portions are published in the Federal Register in the spring and fall of each year. The Unified Agenda is often used as a tool to solicit interest and participation from stakeholders. Termination of this rulemaking will allow FHWA to better align its entries on the Department's Unified Agenda with the Agency's needs, priorities, and objectives.

Accordingly, for these independently sufficient reasons, FHWA is terminating the rulemaking associated with RIN 2125-AG08. By terminating the rulemaking, FHWA is indicating that it no longer considers this rulemaking to be pending. Should FHWA decide at a future date to initiate the same or similar rulemaking, FHWA will initiate a new rulemaking under a new RIN, consistent with the requirements of the Administrative Procedure Act, Title 5, United States Code, 553.

Gloria M. Shepherd,
Executive Director, Federal Highway Administration.

[FR Doc. 2025-09888 Filed 6-2-25; 8:45 am]

BILLING CODE 4910-22-P